DEPARTMENT OF COMMERCE

National Oceanic and Atmospheric Administration

Agency Information Collection Activities; Submission to the Office of Management and Budget (OMB) for Review and Approval; Comment Request; Alaska License Limitation Program for Groundfish, Crab, and Scallops

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 2, 2020.

ADDRESSES: Interested persons are invited to submit written comments to Adrienne Thomas, NOAA PRA Officer, at Adrienne.thomas@noaa.gov. Please reference OMB Control Number 0648-0334 in the subject line of your comments. Do not submit Confidential Business Information or otherwise sensitive or protected information.

FOR FURTHER INFORMATION CONTACT: Requests for additional information or specific questions related to collection activities should be directed to Gabrielle Aberle, 907-586-7356 or gabrielle.aberle@noaa.gov.

SUPPLEMENTARY INFORMATION:

I. Abstract

The National Marine Fisheries Service (NMFS), Alaska Regional Office, is requesting renewal of the currently approved information collection for the Alaska License Limitation Program (LLP) for Groundfish, Crab, and Scallops.

The License Limitation Program (LLP) restricts access to the commercial groundfish, crab, and scallop fisheries in the exclusive economic zone off Alaska, except for certain areas where alternative programs exist. The intended effect of the LLP is to limit the number of participants and reduce fishing capacity in fisheries off Alaska. More information on the LLP can be found on the NMFS Alaska Region website and at 50 CFR 692, 679.4(g) and (k), and 679.7(i).

An LLP license is required for vessels participating in directed fishing for LLP groundfish species in the Bering Sea and Aleutian Islands (BSAI) or Gulf of Alaska (GOA), or fishing in any BSAI LLP crab fisheries. An LLP license is also required for any vessel deployed in scallop fisheries in Federal waters off Alaska (except for some diving operations).

Vessels participating in directed fishing for LLP groundfish species in the GOA or BSAI, or fishing in any BSAI LLP crab fisheries, must be named on a valid copy of the LLP license that is on board the vessel, with some exceptions. An LLP groundfish or crab license authorizes the license holder to deploy the vessel in fisheries in accordance with the specific area and species endorsements, the vessel and gear designations, the maximum length overall (MLOA) specified on the license, and any exemption from the MLOA specified on the license.

An LLP scallop license authorizes the person named on the license to catch and retain scallops in compliance with State of Alaska regulations using a vessel that does not exceed the MLOA specified on the license and the gear designation specified on the license. Unlike the LLP groundfish license, the scallop license is not vessel specific. A valid copy of the LLP scallop license must be on board the vessel.

The LLP originally collected basic information so that NMFS could determine which owners of vessels were issued LLP licenses. To receive an LLP license, an eligible applicant needed to apply during the application periods established when the program was implemented. As the application periods and selection process for the LLP licenses have ended, an LLP license may now only be obtained through transfer.

This information collection collects information necessary for transfer of LLP licenses for groundfish, crabs, and scallops. This collection contains the transfer appeals process and the applications used to transfer an LLP license.

An LLP license holder uses a transfer application to transfer an LLP license to a person who meets the eligibility requirements. The transfer applications collect information on the transferor, the transferee, and the LLP license to be transferred. The groundfish and crab transfer application also collects information on the rockfish quota share to be transferred, the vessel currently named on the LLP license, the vessel to be named on the LLP license, and ownership interest and transaction data.

II. Method of Collection

Information is collected via mail, delivery, or fax. The transfer applications are available as fillable pdfs on the NMFS Alaska Region website and may be downloaded, completed, and printed out prior to submission.

III. Data

OMB Control Number: 0648-0334.

Form Number(s): None.

Type of Review: Regular submission (extension of a current information collection).

Affected Public: Individuals or households; Business or other for-profit organizations.

Estimated Number of Respondents: 49.

Estimated Time per Response: 1 hour each for Application for Transfer License Limitation Program Groundfish/Crab License and Application for Transfer of Scallop LLP License; 4 hours for transfer appeals.

Estimated Total Annual Burden Hours: 52.

Estimated Total Annual Cost to Public: $1,004 in recordkeeping/reporting costs.

Respondent's Obligation: Required to Obtain or Retain Benefits.

Legal Authority: Magnuson-Stevens Fishery Conservation and Management Act (16 U.S.C. 1801 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-19478 Filed 9-2-20; 8:45 am]

BILLING CODE 3510-22-P